FEDERAL COMMUNICATIONS COMMISSION

[FCC 00-207]

Establishing a Government-to-Government Relationship With Indian Tribes

AGENCY: Federal Communications Commission.

ACTION: Notice.

SUMMARY: This document reaffirms the Commission's respect for and commitment to the principles of tribal sovereignty and the federal trust responsibility, and establishes a government-to-government relationship between the Commission and federally-recognized Indian tribes. In an effort to embrace this unique relationship with and responsibility to Indian tribes, the Commission will endeavor to work with Indian tribes on a government-to-government basis to ensure that Indian tribes have adequate access to communications services, and will to the extent practicable consult with tribal governments prior to implementing any regulatory action or policy that will significantly or uniquely affect Indian tribes. Furthermore, this document calls for the FCC to endeavor to identify innovative mechanisms to facilitate tribal consultation and streamline its administrative processes and procedures to remove undue burdens on Indian tribes. In addition, the FCC will also assist Indian tribes in complying with Federal communications statutes and regulations, and educate Commission staff about the fundamental principles governing the relationship between Indian tribes and the federal government.

DATES: Effective June 23, 2000.

FOR FURTHER INFORMATION CONTACT: Steven Rangel at (202) 418-1700 or via internet at srangel@fcc.gov.

SUPPLEMENTARY INFORMATION: This is a summary of the Commission's Policy Statement, FCC 00-207, adopted June 8, 2000; released June 23, 2000. The full text of the Commission's Policy Statement is available for inspection and copying during normal business hours in the FCC Reference Center (Room CY-A257) at its headquarters, 445 12th Street, SW, Washington, D.C. 20554, or may be purchased from the Commission's copy contractor, International Transcription Service, Inc., (202) 857-3800, 1231 20th Street, NW, Washington, D.C. 20036, or may be reviewed via internet at http://www.fcc.gov/Bureaus/OGC/Orders/2000/fcc00207.doc. This document is available to individuals with disabilities requiring accessible formats (electronic ASCII text, Braille, large print, and audiocassette) by contacting Brian Millin at (202) 418-7426 (Voice), (202) 418-7365 (TTY), or by sending an email to access@fcc.gov. Synopsis of the Policy Statement:

I. Reaffirmation of Principles of Tribal Sovereignty and the Federal Trust Responsibility

The Commission recognizes the unique legal relationship that exists between the federal government and Indian Tribal governments, as reflected in the Constitution of the United States, treaties, federal statutes, Executive orders, and numerous court decisions. As domestic dependant nations, Indian Tribes exercise inherent sovereign powers over their members and territory. The federal government has a federal trust relationship with Indian Tribes, and this historic trust relationship requires the federal government to adhere to certain fiduciary standards in its dealings with Indian Tribes. In this regard, the Commission recognizes that the federal government has a longstanding policy of promoting tribal self-sufficiency and economic development as embodied in various federal statutes.

The Commission also recognizes that the Federally Recognized Indian Tribe List Act of 1994, makes a finding that the federal government has a trust responsibility to and a government-to-government relationship with recognized tribes.

Therefore, as an independent agency of the federal government, the Commission recognizes its own general trust relationship with, and responsibility to, federally-recognized Indian Tribes. The Commission also recognizes the rights of Indian Tribal governments to set their own communications priorities and goals for the welfare of their membership.

Commission's Proposals. None

Federal Communications Commission.
Magalie Roman Salas,
Secretary.

[FR Doc. 00-16969 Filed 7-5-00; 8:45 am]

BILLING CODE 6712-01-P